INTERNATIONAL TRADE COMMISSION

[Inv. No. 337-TA-777]

In the Matter of Certain Muzzle-Loading Firearms and Components Thereof; Notice of Institution of Investigation; Institution of Investigation Pursuant to 19 U.S.C. 1337

AGENCY: U.S. International Trade Commission.

ACTION: Notice.

SUMMARY: Notice is hereby given that a complaint and a motion for temporary relief were filed with the U.S. International Trade Commission on May 11, 2011, under section 337 of the Tariff Act of 1930, as amended, 19 U.S.C. 1337, on behalf of Thompson/Center Arms Company, Inc. of Springfield, Massachusetts and Smith & Wesson Corp. of Springfield, Massachusetts. A supplement to the complaint was filed on June 2, 2011. The complaint alleges violations of section 337 based upon the importation into the United States, the sale for importation, and the sale within the United States after importation of certain muzzle-loading firearms and components thereof by reason of infringement of certain claims of U.S. Patent No. 7,908,781 (“the `781 patent”); U.S. Patent No. 7,814,694 (“the `694 patent”); U.S. Patent No. 7,140,138 (“the `138 patent”); U.S. Patent No. 6,604,311 (“the `311 patent”); U.S. Patent No. 5,782,030 (“the `030 patent”); and U.S. Patent No. 5,639,981 (“the `981 patent”). The complaint further alleges that an industry in the United States exists or is in the process of being established as required by subsection (a)(2) of section 337.

The complainants request that the Commission institute an investigation and, after the investigation, issue an exclusion order and cease and desist orders.

The motion for temporary relief requests that the Commission issue a temporary limited exclusion order and temporary cease and desist order prohibiting the importation into and the sale within the United States after importation of certain muzzle-loading firearms and components thereof that infringe claim 11 of the `781 patent; claims 1-3 and 10-12 of the `694 patent; claims 19 and 20 of the `138 patent; claims 1 and 6 of the `311 patent; claims 1-5 of the `030 patent; and claims 1 and 2 of the `981 patent during the course of the Commission's investigation.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR ' 210.10 (2011).

Scope of Investigation: Having considered the complaint, the U.S. International Trade Commission, on June 13, 2011, Ordered That—

(1) Pursuant to subsection (b) of section 337 of the Tariff Act of 1930, as amended, an investigation be instituted to determine whether there is a violation of subsection (a)(1)(B) of section 337 in the importation into the United States, the sale for importation, or the sale within the United States after importation of certain muzzle-loading firearms and components thereof that infringe one or more of claim 11 of the `781 patent; claims 1-3 and 10-12 of the `694 patent; claims 19 and 20 of the `138 patent; claims 1 and 6 of the `311 patent; claims 1-5 of the `030 patent; and claims 1 and 2 of the `981 patent, and whether an industry in the United States exists or is in the process of being established as required by subsection (a)(2) of section 337;

(2) Pursuant to section 210.58 of the Commission's Rules of Practice and Procedure, 19 C.F.R. § 210.58, the motion for temporary relief under subsection (e) of section 337 of the Tariff Act of 1930, which was filed with the complaint, is provisionally accepted and referred to the presiding administrative law judge for investigation;

(3) For the purpose of the investigation so instituted, the following are hereby named as parties upon which this notice of investigation shall be served:

(a) The complainants are:

Thompson/Center Arms Company, Inc., 2100 Roosevelt Avenue, Springfield, MA 01104.

Smith & Wesson Corp., 2100 Roosevelt Avenue, Springfield, MA 01104.

(b) The respondents are the following entities alleged to be in violation of section 337, and are the parties upon which the complaint is to be served:

Dikar Sociedad Cooperativa Limitada, Calle Urarte Kalea—Pol. Ind. San, Lorenzo 26 APTDO 193 20570 Bergara, Spain,

Bergara Barrels Europe, Urarte, 26 Bergara 20570, Spain.

Blackpower Products Inc., 1685 Boggs Road, Suite 300, Duluth, GA 30096.

Connecticut Valley Arms, 1685 Boggs Road, Suite 300, Duluth, GA 30096.

Bergara Barrels North America, 1685 Boggs Road, Suite 300, Duluth, GA 30096.

Ardesa Firearms, Camino de Talleri, s/n, 48170 Zamudio-Vizcoya, Spain.

Traditional Sporting Goods, Inc., d/b/a Traditions Sporting Firearms, 1375 Boston Post Road, P.O. Box 776, Old Saybrook, CT 06475.

(c) The Office of Unfair Import Investigations, U.S. International Trade Commission, 500 E Street, SW., Suite 401, Washington, DC 20436; and

(4) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR § 210.13. Pursuant to 19 CFR § 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 14, 2011.
James R. Holbein,
Secretary to the Commission.

[FR Doc. 2011-15075 Filed 6-16-11; 8:45 am]

BILLING CODE 7020-02-P